DEPARTMENT OF HEALTH AND HUMAN SERVICES

Administration for Children and Families

Submission for OMB Review; Comment Request

Title: Annual Report on State Maintenance-of-Effort (MOE) Programs, ACF-204.

OMB No.: 0970-0199.

Description: States must submit an annual report containing information on their State MOE programs via form ACF-204. The report is an important source for information about the different ways States are using their resources to help families attain and maintain self,-sufficiency. The information is used to discuss program characteristics in our annual report to Congress, to respond to Congressional and public inquiries about how TANF programs are evolving, and to asses State MOE expenditures. The statutory basis for this report is found in sections 409(a)(7) and 411(a)(3) of the Social Security Act and the implementing Federal regulations at 45 CFR 265.9.

Respondents: The 50 States of the United States, the District of Columbia, Guam, Puerto Rico, and the Virgin Islands.

Annual Burden Estimates
Instrument | Number of respondents | Number of responses per respondent | Average burden hours per response | Total burden hours
Annual Report on State Maintenance-of-Effort (MOE) Programs, ACF-204 | 54 | 128 | 1 | 6,912
Estimated Total Annual Burden Hours | 6,912

Additional Information

Copies of the proposed collection may be obtained by writing to the Administration for Children and Families, Office of Administration, Office of Information Services, 370 L'Enfant Promenade, SW., Washington, DC 20447, Attn: ACF Reports Clearance Officer.

OMB Comment

OMB is required to make decision concerning the collection of information between 30 and 60 days after publication of this document in the Federal Register. Therefore, a comment is best assured of having its full effect if OMB receives it within 30 days of publication. Written comments and recommendations for the proposed information collection should be send directly to the following: Office of Management and Budget, Paperwork Reduction Project, 725 17th Street, NW., Washington, DC 20503, Attn: Desk Officer for ACF.

Dated: February 10, 2003.
Robert Sargis,
Reports Clearance Officer.

[FR Doc. 03-3682 Filed 2-13-03; 8:45 am]

BILLING CODE 4184-01-M